FEDERAL COMMUNICATIONS COMMISSION

47 CFR Part 73

[DA 09-836; MB Docket No. 09-50; RM-11515]

Radio Broadcasting Services; Cut Bank, MT

AGENCY: Federal Communications Commission.

ACTION: Proposed rule.

SUMMARY: The Audio Division, at the request of College Creek Media, LLC, proposes the substitution of Channel 265C1 for Channel 274C1 at Cut Bank, Montana, to resolve a short-spacing to FM Station KEAU's authorized transmitter site. Channel 265C1 can be allotted consistent with the minimum distance separation requirements of the Commission's Rules with the imposition of a site restriction located 39.4 kilometers (24.5 miles) east of Cut Bank. The proposed reference coordinates for Channel 265C1 at Cut Bank are 48-39-28 NL and 111-47-29 WL. The proposed allotment of Channel 265C1 at Cut Bank is located 320 kilometers (199 miles) from the Canadian Border. Therefore, Canadian concurrence has been requested.

DATES: Comments must be filed on or before June 8, 2009, and reply comments on or before June 23, 2009.

ADDRESSES: Secretary, Federal Communications Commission, 445 Twelfth Street, SW., Washington, DC 20554. In addition to filing comments with the FCC, interested parties should serve the petitioner as follows: Lee J. Peltzman, Esq., c/o College Creek Media, LLC, Shainis & Peltzman, Chartered, 1850 M Street, NW., Suite 240, Washington, DC 20036.

FOR FURTHER INFORMATION CONTACT: Rolanda F. Smith, Media Bureau, (202) 418-2180.

SUPPLEMENTARY INFORMATION: This is a synopsis of the Commission's Notice of Proposed Rule Making, MB Docket No. 09-50, adopted April 15, 2009, and released April 17, 2009. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Montana, is amended by removing Channel 274C1 and adding Channel 265C1 at Cut Bank.

Federal Communications Commission.
John A. Karousos,
Assistant Chief, Audio Division, Media Bureau.

[FR Doc. E9-10194 Filed 5-1-09; 8:45 am]

BILLING CODE 6712-01-P